CIVIL RIGHTS COMMISSION

Sunshine Act Meeting Notice

AGENCY: United States Commission on Civil Rights.

ACTION: Notice of Commission public business meeting.

DATES: Friday, June 15, 2018, 12:00 p.m. EST.

ADDRESSES: Place: National Place Building, 1331 Pennsylvania Ave. NW, 11th Floor, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public.

There will also be a call-in line for individuals who desire to listen to the presentations: (888) 378-0320; Conference ID 7025358. The event will also live-stream at https://www.youtube.com/user/USCCR/videos. (Please note that streaming information is subject to change.) Persons with disabilities who need accommodation should contact Pamela Dunston at (202) 376-8105 or at access@usccr.gov at least seven (7) business days before the scheduled date of the meeting.

Meeting Agenda

I. Approval of Agenda

II. Business Meeting

A. Speaker Series: “50 Years Later: Reflecting on the 1968 U.S. Commission on Civil Rights Hearings on the Civil Rights of Mexican-Americans”

• J. Richard Avena, former director, U.S. Commission on Civil Rights' then-Field Office in San Antonio, Texas

• Robert Brischetto, Ph.D., Founding Executive Director, Southwest Voter Research Institute

• Candace de Leon-Zepeda, Ph.D., Chair of the Department of English, Mass Communications and Drama, Our Lady of the Lake University

B. Discussion and Vote on Commission report: “An Examination of Excessive Force and Modern Policing Practices”

C. Discussion and Vote on Commission Advisory Committee Chairs

a. Carol Johnson, nominated to Chair the Arkansas Advisory Committee

b. John Malcolm, nominated to Chair the District of Columbia Advisory Committee

c. Nadine Smith, nominated to Chair the Florida Advisory Committee

d. Melanie Vigil, nominated to Chair the Wyoming Advisory Committee

D. Presentation by Minnesota Advisory Committee Chair Velma Korbel, on the recently released report, “Civil Rights and Policing Practices in Minnesota.”

E. Presentation by New York Advisory Committee Chair Alexandra Korry, on the recently released report, “The Civil Rights Implications of `Broken Windows' Policing in NYC and General NYPD Accountability to the Public”

F. Management and Operations

• Staff Director's Report

III. Adjourn Meeting

Dated: June 5, 2018.
Brian Walch,
Director, Communications and Public Engagement.

[FR Doc. 2018-12428 Filed 6-6-18; 11:15 am]

BILLING CODE 6335-01-P